DEPARTMENT OF ENERGY

Federal Energy Regulatory Commission

Notice of Applications for Non-Project Use of Project Lands and Amendment of Shoreline Management Plan and Soliciting Comments, Motions to Intervene, and Protests

February 22, 2005.

Take notice that the following applications have been filed with the Commission and are available for public inspection:

a. Application Types: Non-project use of Project Lands and Amendment of Shoreline Management Plan.

b. Project No: 2232-510 & 511.

c. Date Filed: January 26, 2006.

d. Applicant: Duke Power, a division of Duke Energy Corporation.

e. Name of Project: Catawba-Wateree Project.

f. Location: The project is located on Lake Norman, in Catawba County, North Carolina. This project does not occupy any Tribal or federal lands.

g. Filed Pursuant to: Federal Power Act, 16 U.S.C. 791 (a) 825(r) and sections 799 and 801.

h. Applicant Contact: Joe Hall, Lake Management Representative, Duke Energy Corporation, P.O. Box 1006, Charlotte, NC 28201-1006, (704) 382-8576.

i. FERC Contact: Any questions on this notice should be addressed to Mr. Jon E. Cofrancesco at (202) 502-8951, or e-mail address: Jon.Cofrancesco@ferc.gov.

j. Deadline for filing comments and or motions: March 22, 2006.

All documents (original and eight copies) should be filed with: Ms. Magalie R. Salas, Secretary, Federal Energy Regulatory Commission, 888 First Street, NE., Washington DC 20426. Please include the project numbers (P-2232-510 & 511) on any comments or motions filed. Comments, protests, and interventions may be filed electronically via the internet in lieu of paper. See, 18 CFR 385.2001(a)(1)(iii) and the instructions on the Commission's Web site at http://www.ferc.gov under the e-Filing( link. The Commission strongly encourages e-filings.

k. Description of Request: Duke Power is seeking authorization to lease to Davidson Development, LLC 0.22 acre of Project land on Lake Norman for a Commercial/ Residential Marina, which would consist of a dock with seven boat slips. The dock would be constructed off-site and floated into place during low lake recreation usage. These slips would serve the residents of Cove Key Townhomes at Westview. Further, Duke Power is seeking authorization to change the designated shoreline classification for the site, as shown in the project's approved shoreline management plan. Specifically, Duke Power requests the approved shoreline classification map (Catawba-Wateree Project-Cowans Ford Development, Sheet 3 of 10) for the site's approximately 700 feet of shoreline be changed from a Future Residential designation to a Future Commercial/Residential designation.

l. Location of the Applications: This filing is available for review at the Commission in the Public Reference Room 888 First Street, NE., Room 2A, Washington, DC 20426 or may be viewed on the Commission's Web site at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E6-2866 Filed 2-28-06; 8:45 am]

BILLING CODE 6717-01-P